DEPARTMENT OF TRANSPORTATION

Surface Transportation Board

[Docket No. EP 526 (Sub-No. 3)]

Notice of Railroad-Shipper Transportation Advisory Council Vacancy

AGENCY: Surface Transportation Board (Board).

ACTION: Notice of vacancies on the Railroad-Shipper Transportation Advisory Council (RSTAC) and solicitation of nominations.

SUMMARY: The Board hereby gives notice of 7 vacancies on RSTAC for: (1) Representatives of 3 small shippers; (2) representatives of 2 Class I railroads; (3) a representative of a large shipper; and (4) a representative of a Class II or III railroad. The Board is soliciting suggestions for candidates to fill these vacancies.

DATES: Suggestions for candidates for membership on RSTAC are due on December 2, 2011.

ADDRESSES: Suggestions may be submitted either via the Board's e-filing format or in the traditional paper format. Any person using e-filing should attach a document and otherwise comply with the instructions at the E-FILING link on the Board's Web site, at http://www.stb.dot.gov. Any person submitting a filing in the traditional paper format should send an original and 10 copies to: Surface Transportation Board, Attn: Docket No. EP 526 (Sub-No. 3), 395 E Street, SW., Washington, DC 20423-0001. Please note that submissions will be available to the public at the Board's offices and posted on the Board's Web site under Docket No. EP 526 (Sub-No. 3).

FOR FURTHER INFORMATION CONTACT: Jamie Rennert at 202-245-0283. Assistance for the hearing impaired is available through the Federal Information Relay Service (FIRS) at 1-800-877-8339.

SUPPLEMENTARY INFORMATION: The Board, created by Congress in 1996 to take over many of the functions previously performed by the Interstate Commerce Commission, exercises broad authority over transportation by rail carriers, including regulation of railroad rates and service (49 U.S.C. 10701-10747, 11101-11124), as well as the construction, acquisition, operation, and abandonment of rail lines (49 U.S.C. 10901-10907) and railroad line sales, consolidations, mergers, and common control arrangements (49 U.S.C. 10902, 11323-11327).

RSTAC was established upon the enactment of the ICC Termination Act of 1995 (ICCTA), on December 29, 1995, to advise the Board's Chairman, the Secretary of Transportation, the Committee on Commerce, Science, and Transportation of the Senate, and the Committee on Transportation and Infrastructure of the House of Representatives with respect to rail transportation policy issues that RSTAC considers significant. RSTAC focuses on issues of importance to small shippers and small railroads, including car supply, rates, competition, and procedures for addressing claims. ICCTA directs RSTAC to develop private-sector mechanisms to prevent, or identify and address, obstacles to the most effective and efficient transportation system practicable. The Secretary of Transportation and the members of the Board cooperate with RSTAC in providing research, technical, and other reasonable support. RSTAC also prepares an annual report concerning its activities and recommendations on whatever regulatory or legislative relief it considers appropriate. RSTAC is not subject to the Federal Advisory Committee Act.

RSTAC consists of 19 members. Of this number, 15 members are appointed by the Chairman of the Board, and the remaining 4 members are comprised of the Secretary of Transportation and the Members of the Board, who serve as ex officio, nonvoting members. Of the 15 members to be appointed, 9 members are voting members and are appointed from senior executive officers of organizations engaged in the railroad and rail shipping industries. At least 4 of the voting members must be representatives of small shippers as determined by the Chairman, and at least 4 of the voting members must be representatives of Class II or III railroads. The remaining 6 members to be appointed—3 representing Class I railroads and 3 representing large shipper organizations—serve in a nonvoting, advisory capacity, but are entitled to participate in RSTAC deliberations.

RSTAC is required by statute to meet at least semi-annually. In recent years, RSTAC has chosen to meet 4 times a year, with the first meeting each February. Meetings are generally held at the Board's headquarters in Washington, DC, although some may be held in other locations.

The members of RSTAC receive no compensation for their services. RSTAC members are required to provide for the expenses incidental to their service, including travel expenses, as the Board cannot provide for these expenses. The RSTAC Chairman, however, may request funding from the Department of Transportation to cover travel expenses, subject to certain restrictions in ICCTA. RSTAC also may solicit and use private funding for its activities, again subject to certain restrictions in ICCTA. RSTAC members presently have elected to submit annual dues to pay for RSTAC expenses.

RSTAC members must be citizens of the United States and represent as broadly as practicable the various segments of the railroad and rail shipper industries. They may not be full-time employees of the United States. Further, RSTAC members appointed or reappointed after June 18, 2010, are prohibited from serving as federally registered lobbyists during their RSTAC term.

The members of RSTAC are appointed for a term of 3 years. A member may serve after the expiration of his or her term until a successor has taken office. No member will be eligible to serve in excess of 2 consecutive terms.

At the end of this year, 7 vacancies will exist for: representatives of 3 small shippers; Representatives of 2 Class I railroads; a representative of a large shipper; and a representative of a Class II or III railroad, to begin immediately upon their appointment by the Chairman, and to end on December 31, 2014. Suggestions for candidates to fill these vacancies should be submitted in letter form, identifying the name of the candidate, providing a summary of why the candidate is qualified to serve on RSTAC, and containing a representation that the candidate is willing to serve as a member of RSTAC for a 3-year term beginning immediately upon appointment and ending December 31, 2014. Suggestions for a candidate for membership on RSTAC should be filed with the Board by December 2, 2011. Members selected to serve on RSTAC are chosen at the discretion of the Board's Chairman. Please note that submissions will be available to the public at the Board's offices and posted on the Board's Web site under Docket No. EP 526 (Sub-No. 3).

This action will not significantly affect either the quality of the human environment or the conservation of energy resources.

Authority: 49 U.S.C. 726.

Decided: October 12, 2011.
By the Board, Rachel D. Campbell, Office of Proceedings.
Jeffrey Herzig,
Clearance Clerk.

[FR Doc. 2011-26880 Filed 10-17-11; 8:45 am]

BILLING CODE 4915-01-P